DEPARTMENT OF TRANSPORTATION

Federal Transit Administration

Over-the-road Bus Accessibility Program Announcement of Project Selection

AGENCY: Federal Transit Administration, DOT.

ACTION: Notice.

SUMMARY: The U.S. Department of Transportation (DOT) Federal Transit Administration (FTA) announces the Fiscal Year 2001 selection of projects to be funded under the Over-the-road Bus (OTRB) Accessibility Program, authorized by Section 3038 of the Transportation Equity Act for the 21st Century (TEA-21). The OTRB Accessibility Program makes funds available to private operators of over-the-road buses to help finance the incremental capital and training costs of complying with DOT's over-the-road bus accessibility rule, published in a Federal Register notice on September 24, 1998.

FOR FURTHER INFORMATION CONTACT: The appropriate FTA Regional Administrator for grant-specific issues; or Sue Masselink, Office of Program Management, 202-366-2053 for general information about the OTRB Accessibility Program.

SUPPLEMENTARY INFORMATION: In fiscal year 2001, a total of $4.7 million was available for allocation: $3 million for intercity fixed-route providers and $1.7 million for all other providers, such as commuter, charter, and tour operator. A total of 84 applicants requested $15.1 million: $8.2 million was requested by intercity fixed-route providers, and $6.9 million was requested by all other providers. Project selections were made on a discretionary basis, based on each applicant's responsiveness to statutory project selection criteria, fleet size, and level of funding received in previous years. Because of the high demand for the funds available, most applicants received less funding than they requested, although with the exception of some applicants that received funding in previous years, all qualified applicants received some funding. Each of the following 61 awardees, as well as the 23 applicants who were not selected for funding, will receive a letter that explains how funding decisions were made.

Operator | Award amounts: Intercity fixed-route | Award amounts: Other | Award amounts: Total
Region I:
Brunswick Transportation Co., Inc., South Portland, ME | $0 | $44,800 | $44,800
Wilson Bus Lines, Inc., Cambridge, MA | 24,107 | 0 | 24,107
VIP Charter and Tour, Portland, ME | 0 | 18,156 | 18,156
Concord Coach Lines, Inc., Concord, NH | 61,242 | 0 | 61,242
DATTCO, Inc., New Britain, CT | 91,292 | 35,800 | 127,092
Ritchie Bus Lines, Inc., Northboro, MA | 0 | 19,700 | 19,700
Peter Pan Bus Lines, Inc., Springfield, MA | 216,257 | 0 | 216,257
Pawtuxet Valley Bus, Inc., West Warwick, RI | 0 | 57,600 | 57,600
The Arrow Line, Inc. (Coach USA), East Hartford, CT | 0 | 11,400 | 11,400
Coach USA/Mini Coach of Boston, Chelsea, MA | 0 | 39,600 | 39,600
Conway's Bus Service, Inc. (Gray Line), Cumberland, RI | 0 | 41,800 | 41,800
Bonanza Bus Lines, Providence, RI | 84,044 | 0 | 84,044
Region II:
Swarthout Coaches, Inc., Ithaca, NY | 0 | 24,100 | 24,100
Academy Express, LLC, Hoboken, NJ | 358,203 | 38,000 | 396,203
Adirondack Transit Lines, Inc., Kingston, NY | 135,000 | 0 | 135,000
Brown Coach, Inc., Fonda, NY | 0 | 36,300 | 36,300
Hampton Jitney, Inc., Southampton, NY | 0 | 34,400 | 34,400
Hudson Transit Lines, Inc. (Shortline), Mahwa, NJ | 0 | 189,000 | 189,000
Region III:
Spirit Tours, LLC, Glen Allen, VA | 0 | 27,000 | 27,000
James River Bus Lines, Richmond, VA | 0 | 30,240 | 30,240
Sheraton Bus Services, Inc., Wyalusing, PA | 0 | 30,975 | 30,975
Travel Mates of Virginia, Inc., Harrisonburg, VA | 0 | 24,300 | 24,300
Capitol Trailways (Capitol Bus Company), Harrisburg, PA | 0 | 34,500 | 34,500
Susquehanna Transit Company, Avis, PA | 0 | 25,200 | 25,200
Eyre Bus Services, Inc., Glenelg, MD | 0 | 33,100 | 33,100
Dillon's Bus Service, Inc., Millersville, MD | 0 | 92,700 | 92,700
Rill's Bus Service, Inc., Westminster, MD | 0 | 29,700 | 29,700
Anderson Coach & Tour, Greenville, PA | 0 | 67,100 | 67,100
Lenzer Tour and Travel, Sewickley, PA | 0 | 42,700 | 42,700
Fullington Auto Bus Company, Clearfield, PA | 109,523 | 0 | 109,523
Butler Motor Transit, Inc., Butler, PA | 0 | 6,300 | 6,300
Fantasy Land Cruises, Inc., Duncansville, PA | 0 | 30,600 | 30,600
Lodestar Bus Lines, Inc., Johnstown, PA | 0 | 28,000 | 28,000
Region IV:
Spirit Coach, LLCC, Huntsville, AL | 0 | 27,000 | 27,000
GDA Motor Coach, Inc., Conyers, GA | 0 | 25,200 | 25,200
Americoach Tours, Inc. (Gray Lines), Memphis TN | 0 | 52,100 | 52,100
Colonial Trailways, Mobile, AL | 4,500 | 0 | 4,500
Good Time Tours, Pensacola, FL | 0 | 1,800 | 1,800
Region V:
Peoria Charter Coach Company, Peoria, IL | 53,684 | 0 | 53,684
Turner Coaches, Inc., Terre Haute, IN | 0 | 24,300 | 24,300
Wisconsin Coach Lines, Inc., Waukesha, WI | 33,750 | 2,200 | 35,950
Colonial Coach Lines, Inc., Des Plaines, IL | 0 | 41,800 | 41,800
Pioneer Coach Lines, Inc., Chicago, IL | 0 | 40,700 | 40,700
Lakefront Lines, Inc., Cleveland, OH | 58,124 | 0 | 58,124
Van Galder, Janesville, WI | 38,000 | 0 | 38,000
Region VI:
Greyhound Lines, Inc., Dallas, TX | 1,269,000 | 0 | 1,269,000
Fun Time Tours, Inc., Corpus Christi, TX | 0 | 36,600 | 36,600
Gulf Coast Transportation, Inc. (GCTI), Houston, TX | 0 | 94,400 | 94,400
Vaught Charters/Coach USA, Grand Prairie, TX | 0 | 30,600 | 30,600
Kerrville Bus Company/Coach USA, San Antonio, TX | 114,120 | 78,100 | 192,220
El Expreso Bus Company, Houston, TX | 45,000 | 0 | 45,000
Red Carpet Charters, Oklahoma City, OK | 0 | 45,800 | 45,800
Region VII:
Burlington Trailways, West Burlington, IA | 0 | 27,600 | 27,600
Arrow Stage Coach Lines, Omaha, NE | 0 | 92,800 | 92,800
Region VIII:
Ramblin Express Inc., Colorado Springs, CO | 0 | 24,100 | 24,100
Salt Lake Coaches, Inc., Salt Lake City, UT | 0 | 35,500 | 35,500
Region IX:
VIA Adventures, Inc., Merced, CA | 17,977 | 0 | 17,977
KT Contract Services, North Las Vegas, NV | 21,000 | 42,000 | 63,000
Golden State Coaches, Carson City, NV | 22,500 | 0 | 22,500
Grosvenor Bus Lines, San Francisco, CA | 0 | 37,500 | 37,500
B & G Promotions, Inc., Pismo Beach, CA | 30,362 | 0 | 30,362
AmericanStar Tours, Pismo Beach, CA | 22,608 | 0 | 22,608
Roberts Tours & Transportation, Inc., Honolulu, HI | 0 | 50,400 | 50,400
Region X:
None Selected | 0 | 0 | 0
Total | 2,999,242 | ¹ 1,719,040 | 4,718,282
¹ $19,250 was carried over from withdrawn FY 2000 projects.

Eligible project costs may be incurred by awardees prior to final grant approval. The incremental capital cost for adding wheelchair lift equipment to any new vehicles delivered on or after June 9, 1998, the effective date of TEA-21, is eligible for funding under the OTRB Accessibility Program.

Applicants selected for funding may be contacted by FTA regional offices if any additional information is needed before grants are made. The grant applications will be sent to the U.S. Department of Labor (DOL) for certification under the labor protection requirements pursuant to 49 U.S.C. 5333(b). After referring applications to affected employees represented by a labor organization, DOL will issue a certification to FTA. The terms and conditions of the certification will be incorporated in the FTA grant agreement under the new guidelines replacing those in 29 CFR part 215. Please see Amendment to Section 5333(b), Guidelines to Carry Out New Programs Authorized by the Transportation Equity Act for the 21st Century (TEA-21); Final Rule (64 FR 40990, July 28, 1999).

Issued on September 13, 2001.
Jennifer L. Dorn,
Administrator.

[FR Doc. 01-23258 Filed 9-17-01; 8:45 am]

BILLING CODE 4910-57-M